NATIONAL SCIENCE FOUNDATION

Committee Management; Notice of Establishment

The Director of the National Science Foundation has determined that the establishment of the Advisory Committee for Cyberinfrastructure is necessary and in the public interest in connection with the performance of duties imposed upon the National Science Foundation (NSF), by 42 U.S.C. 1861 et seq. This determination follows consultation with the Committee Management Secretariat, General Services Administration.

Name of Committee: Advisory Committee for Cyberinfrastructure (#25150).

Purpose: Provide perspective and advice to the Cyberinfrastructure Council (CIC) of the National Science Foundation on the agency's plans and programmatic strategies to develop and support a state-of-the-art cyberinfrastructure that enables significant advances in fields of science and engineering.

Responsible NSF Official: Deborah Crawford, Office of Cyberinfrastrucutre, National Science Foundation, 4201 Wilson Boulevard, Arlington, VA 22230. Telephone: (703) 292-8900.

Dated: August 10, 2005.
Susanne Bolton,
Committee Management Officer.

[FR Doc. 05-16108 Filed 8-12-05; 8:45 am]

BILLING CODE 7555-01-M